ENVIRONMENTAL PROTECTION AGENCY

[FRL-7055-6]

Clean Water Act Section 303(d): Availability of Total Maximum Daily Loads (TMDLs)

AGENCY: Environmental Protection Agency (EPA).

ACTION: Notice of availability.

SUMMARY: This notice announces the availability for comment of the administrative record file for TMDLs, prepared by EPA Region 6, addressing pesticides listings in Louisiana's Mermentau and Vermilion/Teche river basins. These TMDLs include 22 waters listed with pesticides as a cause of impairment under section 303(d) of the Clean Water Act (CWA). EPA prepared these TMDLs in response to a Court Order dated October 1, 1999, in the lawsuit Sierra Club, et al. v. Clifford et al., No. 96-0527, (E.D. La.). Under this court order, EPA is required to prepare TMDLs when needed for waters on the Louisiana 1998 section 303(d) list by December 31, 2007.

DATES: Comments on the TMDLs must be submitted in writing to EPA on or before October 15, 2001.

ADDRESSES: Comments on the TMDLs should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs is available for public inspection at this address as well. Copies of the TMDLs and their respective calculations may be viewed at www.epa.gov/region6/water/tmdl.htm. The administrative record files may be obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner. Discussion of the court order may be found at 65 FR 54032 (September 6, 2000).

EPA Seeks Comments on 27 TMDLs

By this notice EPA is seeking comments on the following 23 pesticides TMDLs on the 1999 court-ordered 303(d) list within the Mermentau and Vermilion/Teche basins and 4 newly identified TMDLs for waters located within the Mermentau basin. The pesticides of concern identified were carbofuran and fipronil.

Subsegment | Waterbody name | Pollutants
050101 | Bayou Des Cannes—Headwaters to Mermentau River | Pesticides (carbofuran & fipronil)
050701 | Grand Lake | Pesticides (carbofuran)
050702 | Intracoastal Waterway | Pesticides (carbofuran)
050901 | Bays and Gulf Waters to State 3-mile Limit | Pesticides (carbofuran)
060205 | Bayou Teche—Headwaters At Bayou Courtableau to I-10 | Pesticides (carbofuran)
060207 | Bayou des Glaises Diversion Canal | Pesticides (carbofuran)
060301 | Bayou Teche—I-10 to Keystone Locks and Dam | Pesticides (carbofuran)
060401 | Bayou Teche—Keystone Locks and Dam to Charenton Canal | Pesticides (carbofuran)
060701 | Tete Bayou | Pesticides (carbofuran)
060801 | Vermilion River—Headwaters at Bayou Fusilier-Bourbeaux Junction to New Flanders (Ambassador Caffery Bridge At Hwy 3073) | Pesticides (carbofuran)
060802 | Vermilion River—From New Flanders (Ambassador Caffery Bridge) at Hwy 3073 to Intracoastal Waterway | Pesticides (carbofuran)
060803 | Vermilion River Cutoff | Pesticides (carbofuran)
060901 | Bayou Petite Anse | Pesticides (carbofuran)
060902 | Bayou Carlin (Delcambre Canal)—Lake Peigneur to Bayou Petite Anse (Estuarine) | Pesticides (carbofuran)
060903 | Bayou Tigre | Pesticides (carbofuran)
060904 | Vermilion River B890 Basin New Iberia Southern Drainage Canal | Pesticides (carbofuran)
060906 | Intracoastal Waterway | Pesticides (carbofuran)
060907 | Franklin Canal | Pesticides (carbofuran)
060910 | Boston Canal and Associated Canals (Estuarine) | Pesticides (carbofuran)
060911 | Vermilion-Teche River Basin | Pesticides (carbofuran)
061101 | Bayou Petite Anse | Pesticides (carbofuran)
061102 | Intracoastal Waterway | Pesticides (carbofuran)
050201 | Bayou Plaquemine Brule—headwaters to Bayou Des Cannes | Pesticides (fipronil)
050401 | Mermentau River—origin to Lake Arthur | Pesticides (fipronil)
050501 | Bayou Queue de Tortue—headwaters to Mermentau River | Pesticides (fipronil)
050603 | Bayou Chene—includes Bayou Grand Marais | Pesticides (fipronil)

EPA requests that the public provide to EPA any water quality related data and information that may be relevant to the calculations for these TMDLs, or any other comments relevant to these TMDLs. EPA will review all data and information submitted during the public comment period and revise the TMDLs where appropriate. EPA will then forward the TMDLs to the Court and the Louisiana Department of Environmental Quality (LDEQ). LDEQ will incorporate the TMDLs into its current water quality management plan.

Dated: September 4, 2001.
Richard G. Hoppers,
Acting Director, Water Quality Protection Division, Region 6.

[FR Doc. 01-22910 Filed 9-12-01; 8:45 am]

BILLING CODE 6560-50-P